DEPARTMENT OF COMMERCE

National Oceanic and Atmospheric Administration

Draft Management Plan and Environmental Assessment for Monitor National Marine Sanctuary: Notice of Public Availability and Meetings

AGENCY: Office of National Marine Sanctuaries (ONMS), National Ocean Service (NOS), National Oceanic and Atmospheric Administration (NOAA), Department of Commerce (DOC).

ACTION: Notice of public availability and meetings.

SUMMARY: In accordance with section 304(e) of the National Marine Sanctuaries Act (NMSA), as amended, NOAA is soliciting public comment on the draft management plan and draft environmental assessment for Monitor National Marine Sanctuary.

DATES: Comments: Comments on the draft management plan and draft environmental assessment will be considered if received on or before June 22, 2012.

Public meetings: See SUPPLEMENTARY INFORMATION section below for the dates and locations for the public meetings.

ADDRESSES: To obtain a copy: For a copy of the draft management plan and draft environmental assessment, contact the Management Plan Review Coordinator, Monitor National Marine Sanctuary, 100 Museum Drive, Newport News, VA 23606. Copies can also be downloaded from the Monitor National Marine Sanctuary Web site at http://monitor.noaa.gov.

To submit comments: Comments on the draft management plan and draft environmental assessment may be submitted by one of the following methods:

1. Federal eRulemaking Portal: http://www.regulations.gov. Submit electronic comments via the Federal eRulemaking Portal with Docket Number NOAA-NOS-2012-0076.

2. By email to monitor@noaa.gov;

3. By providing comments (oral or written) at one of the public meetings (see public meetings section below); or

4. In writing to the Monitor NMS Management Plan Review Coordinator at 100 Museum Drive, Newport News, VA 23606.

Instructions: All comments received are a part of the public record and will be generally posted to http://www.regulations.gov without change. All Personal Identifying Information (for example, name, address, etc.) voluntarily submitted by the commenter may be publicly accessible. Do not submit confidential business information or otherwise sensitive or protected information. NOAA will accept anonymous comments (enter N/A in the required fields if you wish to remain anonymous). Attachments to electronic comments will be accepted in Microsoft Word, Excel, WordPerfect, or Adobe PDF file formats only.

Public meetings: See SUPPLEMENTARY INFORMATION section for the dates and locations for the public meetings.

FOR FURTHER INFORMATION CONTACT: Shannon Rides, Management Plan Review Coordinator, at (757) 591-7328.

SUPPLEMENTARY INFORMATION:

Background information

On January 30, 1975, the National Oceanic and Atmospheric Administration (NOAA) designated Monitor National Marine Sanctuary (MNMS) as the nation's first national marine sanctuary (NMS). Managed by NOAA's Office of National Marine Sanctuaries (ONMS), it protects the wreck of the famed Civil War ironclad, USS Monitor, best known for its battle with the Confederate ironclad, CSS Virginia in Hampton Roads, VA., on March 9, 1862. The sanctuary also promotes appreciation and responsible use of the ocean.

NOAA is undergoing a review of the Monitor NMS draft management plan pursuant to section 304(e) of the NMSA, and is now releasing the plan for public review and comment. The draft management plan (2012) was prepared by NOAA in cooperation with the Monitor NMS Sanctuary Advisory Council and with input from the public, local governments, state and federal agencies, and other stakeholders. The draft plan is comprised of eight action plans (education and outreach; research and monitoring; resource protection; visitor use; USS Monitor sailors; possible future sanctuary expansion; conservation; and operations and administration). It sets priorities to guide sanctuary programs and operations, and provides the public with a better understanding of the sanctuary's strategies to protect the USS Monitor.

The accompanying draft environmental assessment analyzes the environmental impacts of the draft management plan pursuant to the National Environmental Policy Act. In doing so, it analyzes two alternatives: the status quo (no change) and the preferred alternative (2012 management plan).

Public meetings

Public meetings will be held at the following locations and dates:

1. April 30, 6:30 p.m., Raleigh, NC, NC Museum of History, 5 East Edenton Street, Raleigh, NC 27601.

2. May 1, 6:30 p.m., Wilmington, NC, NC Maritime Museum, 204 E Moore Street, Southport, NC 28461.

3. May 2, 6:30 p.m., Beaufort, NC, NC Maritime Museum, 315 Front Street, Beaufort, NC 28516.

4. May 3, 6:30 p.m., Nags Head, NC, Jennette's Pier at Nags Head, 7223 South Virginia Dare Trail, Milepost 16.5, Nags Head, NC 27959.

5. May 4, 2 p.m., Newport News, VA, The Mariners' Museum, 100 Museum Drive, Newport News, VA 23606.

Dated: April 9, 2012.
Daniel J. Basta,
Director, Office of National Marine Sanctuaries.

[FR Doc. 2012-9031 Filed 4-16-12; 8:45 am]

BILLING CODE 3510-NK-M